FEDERAL MARITIME COMMISSION

Ocean Transportation Intermediary License

Revocations

The Federal Maritime Commission hereby gives notice that the following Ocean Transportation Intermediary licenses have been revoked pursuant to section 19 of the Shipping Act of 1984 (46 U.S.C. app. 1718) and the regulations of the Commission pertaining to the licensing of Ocean Transportation Intermediaries, 46 CFR part 515, effective on the corresponding date shown below:

License Number: 010564NF.

Name: American World Alliance, Inc.

Address: 4130 Santa Fe Avenue, Long Beach, CA 91080.

Date Revoked: May 8, 2006.

Reason: Surrendered license voluntarily.

License Number: 019268N.

Name: Dispatch Services Logistics Air Limited.

Address: Unit 1, 13/F, Wong's Factory Blvd., 368-370 Sha Tsui Road, Tusen Wan, NT, Hong Kong.

Date Revoked: May 8, 2006.

Reason: Surrendered license voluntarily.

License Number: 001291F.

Name: Robert J. Semany & Co. dba Altransco.

Address: 930 E. Layfayette Blvd., Suite 203, Detroit, MI 48207.

Date Revoked: June 22, 2006.

Reason: Failed to maintain a valid bond.

License Number: 004633F.

Name: The Hawken Group, Inc.

Address: 13126 S. Broadway Street, Los Angeles, CA 90061.

Date Revoked: June 19, 2006.

Reason: Failed to maintain a valid bond.

License Number: 003103F.

Name: United Aero Marine Services, Inc.

Address: 5250 W. Century Blvd., Suite 407, Los Angeles, CA 90045.

Date Revoked: June 12, 2006.

Reason: Failed to maintain a valid bond.

Sandra L. Kusumoto,
Director, Bureau of Certification and Licensing.

[FR Doc. E6-10545 Filed 7-5-06; 8:45 am]

BILLING CODE 6730-01-P